NUCLEAR REGULATORY COMMISSION

Clarification to Regulatory Guide 1.200, Revision 1

AGENCY: Nuclear Regulatory Commission.

ACTION: Clarification to Regulatory Guide.

FOR FURTHER INFORMATION CONTACT: Mary Drouin, U.S. Nuclear Regulatory Commission, Washington, DC 20555-0001. Telephone: 301-415-6675; e-mail: MXD@nrc.gov.

Introduction

The U.S. Nuclear Regulatory Commission (NRC) is issuing a clarification to an existing guide in the agency's regulatory guide (RG) series. The NRC has developed this series to describe and make available to the public such information as methods that are acceptable to the NRC staff for implementing specific parts of the NRC's regulations, techniques that the staff uses in evaluating specific problems or postulated accidents, and data that the staff needs in its review of applications for permits and licenses.

At this time, the NRC is issuing a clarification to Revision 1 of RG 1.200, “An Approach for Determining the Technical Adequacy of Probabilistic Risk Assessment Results for Risk-Informed Activities,” issued January 2007. The purpose of this clarification is to provide additional explanation to the staff's regulatory position with regard to defining the technical acceptability of a probabilistic risk assessment (PRA), specifically with respect to the treatment of the sources of model uncertainty and the related assumptions in the base PRA.

The clarification to RG 1.200, Revision 1 can be found in Agencywide Documents Access and Management System (ADAMS) Accession Number ML071940235.

The clarification to Regulatory Guide 1.200, Revision 1, is intended for licensees of nuclear power plants. Revision 1 of this RG remains in effect for licensees of nuclear power plants.

The NRC staff encourages and welcomes comments and suggestions in connection with improvements to published RGs, as well as items for inclusion in RGs that are currently under development. You may submit comments by any of the following methods.

1. Mail comments to: Rulemaking, Directives and Editing Branch, Office of Administration, U.S. Nuclear Regulatory Commission, Washington, DC 20555-0001.

2. Hand-deliver comments to: Rulemaking, Directives and Editing Branch, Office of Administration, U.S. Nuclear Regulatory Commission, 11555 Rockville Pike, Rockville, Maryland 20852, between 7:30 a.m. and 4:15 p.m. on Federal workdays.

3. Fax comments to: Rulemaking, Directives and Editing Branch, Office of Administration, U.S. Nuclear Regulatory Commission at (301) 415-5144.

4. Direct requests for technical information about this clarification to Revision 1 of RG 1.200 to Ms. Mary Drouin at (301) 415-6675 or MXD@nrc.gov.

RGs are available for inspection or downloading through the NRC's public Web site at http://www.nrc.gov/reading-rm/doc-collections/reg-guides/. In addition, this clarification to Revision 1 of RG 1.200 is available for inspection or downloading through the Agencywide Documents Access and Management System (ADAMS) at http://www.nrc.gov/reading-rm/adams.html under ADAMS Accession No. ML071940235.

The clarification to Revision 1 of RG 1.200 and other related publicly available documents can also be viewed electronically on computers in the NRC's Public Document Room (PDR), which is located at 11555 Rockville Pike, Rockville, Maryland. The reproduction contractor at the PDR will make copies of documents for a fee. The mailing address for the PDR is USNRC, PDR, Washington, DC 20555-0001. The PDR can also be reached by telephone at (301) 415-4737 or (800) 397-4205, by fax at (301) 415-3548, and by e-mail to PDR@nrc.gov.

RGs are not copyrighted, and Commission approval is not required to reproduce them.

(5 U.S.C. 552(a))

Dated at Rockville, Maryland, this 27th day of July, 2007.
For the U.S. Nuclear Regulatory Commission.
Farouk Eltawila,
Director, Division of Risk Assessment and Special Projects, Office of Nuclear Regulatory Research.

[FR Doc. E7-15036 Filed 8-1-07; 8:45 am]

BILLING CODE 7590-01-P